DEPARTMENT OF THE INTERIOR

Bureau of Land Management

[AK-930-1310-AG]

Notice of Intent To Prepare an Integrated Activity Plan IAP/Environmental Impact Statement (EIS) on Management of the Northwestern Portion of the National Petroleum Reserve-Alaska (NPR-A); Request for Information; and Call for Nominations and Comments

AGENCY: Bureau of Land Management, Interior.

SUMMARY: In accordance with the Federal Land Policy and Management Act of 1976 (43 U.S.C. 1701 et seq.), as amended; the National Environmental Policy Act of 1969 (42 U.S.C. 4321 et seq.), as amended; Title I of the Naval Petroleum Reserves Production Act of 1976 (42 U.S.C. 6501 et seq.), as amended by the Department of the Interior and Related Agencies Appropriations Act for Fiscal Year 1981, Pub. L. 96-514, 94 Stat. 2957, 2964 (codified in 42 U.S.C. 6508); the Alaska National Interest Lands Conservation Act, Pub. L. 96-487, 94 Stat. 2371, section 810, 16 U.S.C. 3120; and the regulations at 43 CFR parts 2360 and 3130; the Bureau of Land Management (BLM), Alaska State Office, is preparing an Integrated Activity Plan (IAP)/Environmental Impact Statement (EIS) for the northwest portion of the National Petroleum Reserve-Alaska (NPR-A). This Notice also serves as a Request for Information (Request) and Call for Nominations (Call) and Comments per 43 CFR 3130.1 and 3131.2.

SUPPLEMENTARY INFORMATION: The purpose of this Notice is to invite suggestions and the submittal of relevant information for the proposed IAP/EIS. Potential issues include, but are not limited to, wildlife resources protection (terrestrial and aquatic); oil and gas leasing and development (pursuant to 43 CFR Part 3130); subsistence resources and activities and possible impacts on subsistence from various management alternatives; access, recreation, and visual resources; threatened and endangered species; and historic; cultural, soil, water, and vegetation resources. Potential management actions and activities which may have environmental and subsistence impacts for the area include mineral material extraction; oil and gas exploration and development; wilderness; recreation; commercial development; recommendations for wilderness designations; modifications of existing Special Areas; and identification of any new areas for additional resource protection. Information, comments, and nominations on specific issues to be addressed in the plan are sought from all interested parties. This early planning and consultation step is important for ensuring that all interests and concerns are communicated to the Department of the Interior for future decisions in land use, planning, and management.

Description of the Area

The area subject to this Notice is composed of those BLM-administered lands, subject to valid existing rights, in the northwestern portion of NPR-A. The northwestern portion of NPR-A is described as: Beginning on the western boundary NPR-A on the east—west township line between T.8 N., R.40 W., and T.9 N., R.39 W., Umiat Meridan (UM.); Thence proceed easterly along the township line to the northeast corner of T.8 N., R.26 W., UM.; Thence proceed southerly along the township line to the southeast corner of T.7 N., R.26 W., UM.; Thence proceed easterly along the township line to the northeastern corner of T.6 N., R.25 W., UM.; Thence proceed southerly along the township line to the southeast corner of T.5 N., R.25 W., UM.; Thence proceed easterly along the township line to the northeast corner of T.4 N., R.24 W., UM.; Thence proceed southerly along the township line to the southeast corner of T.1 N., R.24 W., UM.; Thence proceed easterly along the township line to the northeast corner of T.1 S., R.24 W., UM.; Thence proceed southerly along the township line to the southeast corner of T.4 S., R.24 W., UM.; Thence proceed easterly along the township line to a point where the left bank of the Colville River meets the southern township line of T.4 S., R.15 W., UM.; Thence proceed in a generally easterly direction following the left bank of the Colville River to a point where the Colville River intercepts the eastern boundary of T.3 S., R.6 W., UM.; Thence proceed northerly following the township lines to the northeast corner of T.2 N., R.6 W., UM.; Thence proceed westerly following the township line to the right bank of the Ikpikpuk River on the south township line of T.3 N., R.12 W., UM.; Thence proceed northerly along the right bank of the Ikpikpuk River to the northern boundary of NPR-A; Thence follow the boundary of NPR-A in a general westerly and then southerly direction to the point of beginning of this description. This planning area consists of approximately 9,980,000 acres of which approximately 9,437,000 are federal and approximately 543,000 acres are in private ownership. A large scale map of the plan area (which also serves as the Call map) showing boundaries of the area by township is available from the Alaska State Office, BLM, 222 West 7th Avenue, Anchorage, AK 99501, telephone (907) 271-5546.

Public Participation

BLM seeks information and comments on issues relating to the future land use, planning, and management of the northwest portion of NPR-A. Also requested is information and comments on resources, such as wilderness, wildlife and subsistence resources, as well as current and potential future activities on these lands, including possible development of the area's oil and gas potential. The agency is interested in learning what areas are of particular value for various species and uses, and what measures should be considered to protect resources and uses from potentially impacting activities. Comments are also sought on any potential conflicts with approved coastal management plans (CMPs) and other land use plans that may result from possible future activities in the area. These comments should identify specific policies of concern as listed in CMPs or other plans, the nature of the conflicts foreseen, and steps that BLM could take to avoid or mitigate the potential conflicts. Comments may be in terms of broad areas or focused on particular townships of concern. Comments are sought on activities and measures to protect surface resources within the plan area, including fish and wildlife, historical and scenic values. Comments are sought on subsistence uses and needs within the plan area and possible impacts on subsistence from other uses of the area. Comments should include recommendations for particular sections of the plan area that are of value for surface and subsurface resources, as well as conditions, restrictions, and prohibitions that would protect surface resources. Comments, including names and street addresses of respondents, will be available for public review during regular business hours. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Pursuant to 43 CFR 3131.1 and 3131.2, relevant information related to possible oil and gas leasing is requested for the plan area. Oil and gas companies are specifically requested to nominate areas within the plan area that they would like to have considered for oil and gas leasing. Nominations must be depicted on the Call map by outlining the area(s) of interest along township lines. Nominators are asked to submit a list of townships nominated to facilitate correct interpretation of their nominations on the Call map. Although the identities of those submitting nominations for oil and gas leasing become a matter of public record, the individual nominations will be held confidential consistent with applicable law. Nominators also are requested to rank townships nominated for oil and gas leasing according to priority of interest [(e.g., priority 1 (high), 2 (medium), or 3 (low)]. Townships nominated that do not indicate priorities will be considered priority 3. Nominators are encouraged to be specific in indicating townships by priority. Blanket priorities on large areas are not useful in the analysis of industry interest. The telephone number and name of a person to contact in the nominator's organization for additional information should be included in the response. The regulations at 43 CFR part 3130 limit the size of an oil and gas lease tract within the NPR-A boundaries to no more than 60,000 acres (43 CFR 3130.4-1). Although nominations are to be submitted along township lines, comments are also being sought on the preferred size of tracts for leasing in this area, not to exceed 60,000 acres.

Responses to this request for information and comments, and call for nominations must be received no later than 45 days following publication of this document in the Federal Register. Nominations must be submitted in envelopes labeled “Nominations Related to the NPR-A IAP/EIS” to protect the confidentiality of the nominations. The original Call map with nominations must be submitted to the NPR-A Planning Team Leader, Bureau of Land Management, 222 West 7th Avenue #13, Anchorage, AK 99513-7599. Information, comments, and nominations submitted in responses to this publication will assist in early scoping and later development of alternatives for the IAP/EIS and will help identify areas for potential activities, including oil and gas development and resource protection.

Tentative Schedule

Approximate dates for actions and decisions in the planning process for this proposal are:

Comments are due on Notice, Request, and Call—December 15, 2001.

Scoping meetings are scheduled for the following Alaska communities:

Point Lay—December 3, 2001

Anaktuvuk Pass—December 4, 2001

Wainwright—December 5, 2001

Atqasuk—December 6, 2001

Barrow—December 10, 2001

Nuiqsut—December 11, 2001

Fairbanks—January 15, 2002

Anchorage—January 16, 2002

All meetings will begin at 7:00 PM. Meeting locations will be announced later.

Draft IAP/EIS available for comment—November 19, 2002.

Public meetings/hearings—December, 2002—January, 2003.

Comments due on Draft IAP/EIS—January 30, 2003.

Final IAP/EIS available for public view—October 2, 2003.

Record of Decision—November 3, 2003.

FOR FURTHER INFORMATION CONTACT: Curt Wilson, (907) 271-5546 or clwilson@ak.blm.gov. He can be reached by mail at 222 W. 7th Avenue, #13, Anchorage, AK 99513-7599.

Francis R. Cherry, Jr.,
State Director, Alaska.

[FR Doc. 01-28665 Filed 11-14-01; 8:45 am]

BILLING CODE 4310-JA-M